DEPARTMENT OF THE INTERIOR

Bureau of Land Management

[NV-058-04-1610-DR-241E]

Notice of Availability of the Record of Decision and Resource Management Plan for the Red Rock Canyon National Conservation Area

AGENCY: Bureau of Land Management, Interior.

ACTION: Notice of availability of the Record of Decision (ROD) and Resource Management Plan (RMP).

SUMMARY: In accordance with the National Environmental Policy Act (NEPA), the Federal Land Policy and Management Act (FLPMA), the Bureau of Land Management (BLM) management policies, and the Red Rock Canyon National Conservation Area Establishment Act, the BLM announces the availability of the ROD/RMP for Red Rock Canyon National Conservation Area (RRCNCA). The Nevada State Director will sign the ROD/RMP, which becomes effective immediately.

ADDRESSES: Copies of the ROD/RMP are available upon request from the Red Rock Canyon National Conservation Area Manager, Timothy P. O'Brien, Las Vegas Field Office, Bureau of Land Management, 4701 N. Torrey Pines Ave, Las Vegas, NV 89130 or via the Internet at: http://www.nv.blm.gov/vegas. Copies can also be requested by calling (702) 515-5000.

FOR FURTHER INFORMATION CONTACT: Timothy P. O'Brien, Red Rock Canyon National Conservation Area Manager, 4701 N. Torrey Pines, Las Vegas, NV 89130, or by telephone at (702) 515-5058, email Timothy_O'Brien@blm.gov.

SUPPLEMENTARY INFORMATION: The RMP describes the actions to conserve, protect, and enhance the endangered species, wilderness characteristics, unique geological, archeological, ecological, cultural, and recreation resources that are encompassed within the RRCNCA for the benefit and enjoyment of present and future generations. The RRCNCA ROD/RMP provides management decisions for 197,000 acres.

Juan Palma,
Field Manager, Las Vegas.

[FR Doc. 05-18973 Filed 9-20-05; 8:45 am]

BILLING CODE 4310-HC-P